DEPARTMENT OF THE INTERIOR

Bureau of Land Management

[NV-023-1232-EA-NV06; Special Recreation Permit # NV-023-00-03]

Closure of Certain Public Land, and Prohibition of Certain Activities, in the Winnemucca District for the Management of Lands and Activities Located in and Around the Burning Man Event Site, Pershing County, Nevada

AGENCY: Bureau of Land Management Department of the Interior (Interior)

ACTION: Closures and restrictions of public lands in Washoe and Pershing Counties.

SUMMARY: Certain lands would be temporarily closed or restricted, and certain activities would be temporarily prohibited, in the Winnemucca District, Pershing and Washoe Counties, Nevada, for camping, vehicle use, fire use, fireworks use, firearms use and aircraft landing from 6 a.m., August 28 to 12:00 pm, September 6, 2000. These closures, restrictions and prohibitions are being made in the interest of public safety at and around the public lands location of an event known as the Burning Man Festival. This event is expected to attract at least 28,000 participants this year. The lands involved are located in the Mount Diablo Meridian and located northeast of Gerlach, Nevada.

Public Camping Is Prohibited in a Nine Square Mile Area Encompassing the Event, during the event period, August 28, 2000 to September 5, 2000, with the exception of defined camping areas designated and provided by the Black Rock City LLC, an authorized “pilot camp” and BLM-authorized event management-related camps The following public lands in and surrounding the Burning Man site are affected:

T33N, R24E,

Sec. 2; Sec. 3; Sec. 4; Sec. 9; Sec. 10; Sec. 11.

T33½N, R24E,

Sec. 33; Sec. 34; Sec. 35.

Operation of Motorized Vehicles Within the Event Boundary Area Is Prohibited, during the Burning Man event period, August 28, 2000 to September 4, 2000, with the following exceptions: participant arrival at the event and departure following event completion on designated routes, art vehicles registered with Burning Man; Black Rock City LLC staff and support, BLM, medical, law enforcement, and firefighting vehicles. “Art Cars” must register with Burning Man/Black Rock City LLC and must provide evidence of registration at all times. The following areas in and around the Burning Man event site are affected:

T33½N, R24E,

Sec. 33; Sec. 34; Sec. 35.

T33N, R24E,

Sec. 2, Sec. 3, Sec. 4, Sec. 9, Sec. 10, Sec. 11.

The “West Track” from The “First Exit/Entrance” (“3-Mile”) to the “Second Exit/Entrance” (“12-Mile”) Will Be Closed during the Burning Man event period, August 28, 2000 to September 4, 2000, with the exception of BLM personnel, law enforcement and emergency medical services, and authorized Burning Man staff. The “West Track” is that roadway or trackway on the Black Rock Desert playa that parallels the northwestern playa margin/shore of ancient Lake Lahontan. The “Middle Track” and “East Track” that lead out from the “First Exit/Entrance” (“3-Mile”) will remain open. The affected lands through which the “West Track” passes from southwest to northeast are:

T33N, R23E,

Sec. 25; Sec. 35;Sec. 36.

T33N, R24E,

Sec. 4; Sec. 5; Sec 8; Sec. 9; Sec. 17; Sec. 18; Sec 19.

T33½N, R24E,

Sec. 27; Sec. 33; Sec. 34.

Fire Restriction Orders Are in Effect: No Open Flames Are Permitted Within 1,000 Feet of Black Rock Desert Playa Edge Areas That Contain Vegetation. Black Rock City LLC/Burning Man will abide by fire restriction orders, except for the following as officially approved by Black Rock City LLC in coordination with BLM: Official art burns, authorized event fireworks, and other authorized fires only in Black Rock City LLC/Burning Man-supplied fire pans and fire barrels.

The Use, Sale or Possession of Personal Fireworks Within the Burning Man Event/Black Rock City Boundary Fence Is Prohibited, with the exception of those fireworks that have been approved by Black Rock City LLC as part of an official Burning Man art burn event. The following areas in and around the Burning Man event site are affected:

T33½N, R24E,

Sec. 33; Sec. 34; Sec. 35.

T33N, R24E,

Sec. 2, Sec. 3, Sec. 4, Sec. 9, Sec. 10, Sec. 11.

Possession of Firearms Is Prohibited during the event inside the Burning Man event/Black Rock City boundary fence, with the exception of county, state and federal certified law enforcement personnel under the color of law. “Firearm” means any device designed to be used as a weapon from which a projectile may be expelled through the barrel by the force of any explosion or other form of combustion. (NRS 202.253). The following areas in and around the Burning Man event site are affected:

T33½N, R24E,

Sec. 33; Sec. 34; Sec. 35.

T33N, R24E,

Sec. 2, Sec. 3, Sec. 4, Sec. 9, Sec. 10, Sec. 11.

Discharge of Firearms Is Prohibited for two miles in all directions from the event boundary, with the exception of law enforcement officers under color of law. The following areas in and around the Burning Man event site are affected:

T33N, R24E,

Sec. 1; Sec. 2; Sec. 3; Sec. 4; Sec. 5; Sec 6: E½; Sec 8; Sec. 9; Sec. 10; Sec. 11; Sec. 12; Sec. 13: N½ ; Sec. 13: SW¼; Sec. 14; Sec. 15; Sec. 16; Sec. 17: N½ ; Sec. 17: SE¼; Sec. 21: NE¼; Sec. 22: N½, Sec. 23: NW¼.

T33½N, R24E,

Sec. 25; Sec. 26; Sec. 27 Sec. 28; Sec. 29; Sec. 32; Sec. 33; Sec. 34; Sec. 35; Sec. 36.

T34N, R24E,

Sec. 33: NE¼; 33: S½; Sec. 34; Sec. 35; Sec. 36: S½.

T34N, R25E,

Sec. 33.

T33N, R25E,

Sec. 4; Sec. 9: W½ ; Sec. 9: NW¼ of the NE¼.

Aircraft Are Prohibited from Landing on the Playa for Five Miles in All Directions from the Event Boundary During the Event, with the exception of an authorized Burning Man landing strip for Burning Man clientele, law enforcement and emergency medical services. The following public lands are Temporarily Closed to Aircraft Landing, Taking Off, and Taxiing, Except for Those Authorized (by Burning Man/Black Rock City LLC) and Emergency Aircraft:

T33N, R23E,

Sec. 25: E½.

T33N, R24E,

Sec. 1; Sec. 2; Sec. 3; Sec. 4; Sec. 5: SE¼; Sec. 8: NE¼; Sec. 8: S½; Sec. 9; Sec. 10; Sec. 11; Sec.12; Sec. 13: W½;. Sec. 14; Sec. 15; Sec. 16; Sec. 17; Sec. 18: NE¼; Sec. 18: W½; Sec 19; Sec. 20; Sec. 21; Sec. 22: N½; Sec. 28: NW¼; Sec. 29; Sec. 30: NE¼.

T33½N, R24E,

Sec. 25; Sec. 26; Sec. 27; Sec. 28; Sec. 33: N½; Sec. 33: SE¼; Sec. 34; Sec. 35; Sec. 36.

T34N, R24E,

Sec. 23: NE¼;

Sec. 23: NE¼; Sec. 23: S½; Sec. 24; Sec. 25; Sec. 26; Sec. 27; Sec. 33: E½.

T33N, R25E.

Sec. 2: N½; Sec. 3: N½; Sec. 4.

T34N, R25E,

Sec.16; Sec. 21; Sec. 22: S½; Sec. 26 SW¼; Sec. 33; Sec. 34; Sec. 35.

A map showing these temporary closure, restrictions and prohibitions is available from the following BLM office: BLM-Winnemucca Field Office 5100 East Winnemucca Blvd., Winnemucca, Nevada 89445.

After this information is published in the Federal Register, the map will be published on the Winnemucca Field Office website at: www.nv.blm.gov/winnemucca.

FOR FURTHER INFORMATION CONTACT: Michael Bilbo, Outdoor Recreation Planner, or Les Boni, Assistant manager, Non-Renewable Resources, at (775) 623-1500, or write to: BLM-Winnemucca Field Office, 5100 East Winnemucca Blvd., Winnemucca, Nevada 89445.

Authority: 43 CFR 8364.

Penalty: Any person failing to comply with the closure orders may be subject to imprisonment for not more than 12 months, or a fine in accordance with the applicable provisions of 18 USC 3571, or both.

Dated: July 31, 2000.
Terry Reed,
Field Manager, Winnemucca Field Office.

[FR Doc. 00-20231 Filed 8-9-00; 8:45 am]

BILLING CODE 1310-HC-P